SECURITIES AND EXCHANGE COMMISSION

[File No. 500-1]

In the Matter of Go EZ Corp.; Order of Suspension of Trading

April 4, 2016.

It appears to the Securities and Exchange Commission that there is a lack of current and accurate information concerning the securities of Go EZ Corp. (“GEZC”) (CIK No. 314197) because of questions regarding the accuracy and adequacy of publicly disseminated information in press releases and public filings concerning, among other things, GEZC's business prospects, operations, and control. GEZC is a Delaware corporation whose principal place of business is listed as 6782 Collins Ave., Miami Beach, Florida. GEZC's common stock is quoted on OTC Link operated by OTC Markets Group, Inc. under the ticker symbol GEZC.

The Commission is of the opinion that the public interest and the protection of investors require a suspension of trading in the securities of the above-listed company.

Therefore, it is ordered, pursuant to Section 12(k) of the Securities Exchange Act of 1934, that trading in the securities of the above-listed company is suspended for the period from 9:30 a.m. EDT, on April 4, 2016 through 11:59 p.m. EDT, on April 15, 2016.

By the Commission.
Jill M. Peterson,
Assistant Secretary.

[FR Doc. 2016-07967 Filed 4-4-16; 11:15 am]

BILLING CODE 8011-01-P